DEPARTMENT OF COMMERCE

National Institute of Standards and Technology

[Docket Number: 140218152-4152-01]

RIN 0693-ZB07

Manufacturing Extension Partnership (MEP) Center for Florida; Availability of Funds

AGENCY: National Institute of Standards and Technology (NIST), United States Department of Commerce (DoC).

ACTION: Notice of Funding Availability.

SUMMARY: NIST invites applications from eligible applicants for funding one (1) MEP center in the State of Florida. The objective of the MEP center is to provide manufacturing extension services to primarily small- and medium-sized manufacturers in the state of Florida. The MEP center will become part of the MEP national system of extension service providers, currently comprised of more than 400 centers and field offices located throughout the United States and Puerto Rico.

DATES: Electronic applications must be received no later than 11:59 p.m. Eastern Time on May 14, 2014. Paper applications must be received by NIST by 5:00 p.m. Eastern Time on May 14, 2014. Applications received after the respective deadline will not be reviewed or considered. The earliest anticipated start date for awards made under this notice and the corresponding Federal Funding Opportunity (FFO) announcement is expected to be October 1, 2014.

ADDRESSES: For applicants without Internet access, the standard application package may be obtained by contacting Diane Henderson, National Institute of Standards and Technology, Manufacturing Extension Partnership, 100 Bureau Drive, Stop 4800, Gaithersburg, MD 20899-4800, phone (301) 975-5105. Applicants with Internet access should obtain the standard application package by downloading the application package through Grants.gov. Paper submissions should be sent to: Diane Henderson, National Institute of Standards and Technology, Manufacturing Extension Partnership, 100 Bureau Drive, Stop 4800, Gaithersburg, MD 20899-4800. Electronic submissions should be submitted to www.grants.gov.

FOR FURTHER INFORMATION CONTACT: Administrative, budget, cost-sharing, and eligibility questions and other programmatic questions should be directed to Diane Henderson at Tel: (301) 975-5105; Email: diane.henderson@nist.gov; Fax: (301) 963-6556. Grants Administration questions should be addressed to: Jannet Cancino, Grants and Agreements Management Division, National Institute of Standards and Technology, 100 Bureau Drive, Stop 1650, Gaithersburg, MD 20899-1650; Tel: (301) 975-6544; Email: jannet.cancino@nist.gov; Fax: (301) 926-6319. For assistance with using Grants.gov contact Christopher Hunton at Tel: (301) 975-5718; Email: christopher.hunton@nist.gov; Fax: (301) 975-8884. All questions and responses will be posted on the MEP Web site, www.nist.gov/mep.

SUPPLEMENTARY INFORMATION: Electronic access: Applicants are strongly encouraged to read the corresponding Federal Funding Opportunity (FFO) announcement available at www.grants.gov for complete information about this program, including all program requirements and instructions for applying by paper or electronically. The FFO may be found by searching under the Catalog of Federal Domestic Assistance Name and Number provided below.

Authority: 15 U.S.C. 278k, as implemented in 15 CFR part 290.

Catalog of Federal Domestic Assistance Name and Number: Manufacturing Extension Partnership—11.611.

Webinar Information Session: NIST MEP will hold an information session for organizations that are considering applying to this opportunity. This webinar will provide general information regarding MEP and offer general guidance on preparing proposals. NIST/MEP staff will be available on the webinar to answer general questions. During the webinar, proprietary technical discussions about specific project ideas will not be permitted. Also, NIST/MEP staff will not critique or provide feedback on any project ideas during the webinar or at any time before submission of a proposal to MEP. However, NIST/MEP staff will provide information about the MEP eligibility and cost-sharing requirements, evaluation criteria and selection factors, selection process, and the general characteristics of a competitive MEP proposal during this webinar, and by phone and email. The webinar will be held approximately 14 business days after posting of the FFO and publication in the Federal Register. The exact date and time of the webinar will be posted on the MEP Web site at www.nist.gov/mep. The webinar will be recorded and a link to the recording will be posted on the MEP Web site. In addition, the webinar presentation will be available after the webinar on the MEP Web site. Organizations wishing to participate in the webinar must sign up by contacting Diane Henderson at diane.henderson@nist.gov.

Program Description: NIST invites applications from eligible applicants for funding one (1) MEP center to provide manufacturing extension services to primarily small- and medium-sized manufacturers in the state of Florida. The MEP center will become part of the MEP national system of extension service providers, currently comprised of more than 400 centers and field offices located throughout the United States and Puerto Rico.

The objective of an MEP center is to provide manufacturing extension services that enhance productivity, innovative capacity, and technological performance, and strengthen the global competitiveness of primarily small- and medium-sized U.S.-based manufacturing firms in its service region. Manufacturing extension services are provided by utilizing the most cost effective, local, leveraged resources for those services through the coordinated efforts of a regionally-based MEP center and local technology resources. The management and operational structure of an MEP center is not prescribed, but should be based upon the characteristics of the manufacturers in the region and locally available resources with demonstrated experience working with manufacturers.

It is not the intent of this program that the centers perform research and development.

Information regarding MEP and these centers is available at www.nist.gov/mep.

Funding Availability: NIST anticipates funding one (1) application at the level of approximately $3,500,000 for an initial award for an MEP Center in the state of Florida. The project awarded under the FFO will have a budget and performance period of one (1) year. The award may be renewed on an annual basis in accordance with 15 CFR § 290.4. NIST may provide annual renewal funding at a higher or lower level in the future based on availability of funds.

Cost Share Requirements: Non-Federal cost sharing of at least 50 percent of the total project costs is required for the first year of operation. Any renewal funding of an award will require non-Federal cost sharing as follows:

Year of center operation | Maximum NIST share | Minimum non-federal share
1-3 | 1/2 | 1/2
4 | 2/5 | 3/5
5 and beyond | 1/3 | 2/3

Non-Federal cost sharing is that portion of the project costs not borne by the Federal Government. The applicant's share of the MEP center expenses may include cash, services, and third party in-kind contributions, as described at 15 CFR § 14.23 or § 24.24, as applicable, and the MEP program rule, 15 CFR § 290.4(c). No more than 50% of the applicant's total non-Federal cost share may be third party in-kind contributions of part-time personnel, equipment, software, rental value of centrally located space, and related contributions, per 15 CFR § 290.4(c)(5). The source and detailed rationale of the cost share, including cash, full- and part-time personnel, and in-kind donations, must be documented in the budget submitted with the application and will be considered as part of the evaluation review under Section V.1(c) of the FFO.

All non-Federal cost share contributions require a letter of commitment signed by an authorized official from each source.

Any cost sharing must be in accordance with the “cost sharing or matching” provisions of 15 CFR Part 14, Uniform Administrative Requirements for Grants and Cooperative Agreements with Institutions of Higher Education, Hospitals, Other Non-Profit, and Commercial Organizations or 15 CFR part 24, Uniform Administrative Requirements for Grants and Cooperative Agreements to State and Local Governments, as applicable.

As with the Federal share, any proposed costs included as non-Federal cost sharing must be an allowable/eligible cost under this Program and the following applicable Federal cost principles: (1) Institutions of Higher Education: 2 CFR part 220 (OMB Circular A-21); (2) Nonprofit Organizations: 2 CFR part 230 (OMB Circular A-122); and (3) State, Local and Indian Tribal Governments: 2 CFR part 225 (OMB Circular A-87).

As with the Federal share, any proposed non-Federal cost sharing will be made a part of the cooperative agreement award and will be subject to audit if the project receives MEP funding.

Eligibility: The eligibility requirements given in this section will be used for this competition only in lieu of those published in the MEP regulations found at 15 CFR part 290, specifically 15 CFR § 290.5(a)(1). Each award recipient must be a U.S.-based nonprofit institution or organization. For the purpose of this funding opportunity, nonprofit organizations include universities and state and local governments. An eligible organization may work individually or include proposed subawards or contracts with others in a project application, effectively forming a team. Existing MEP awardees who meet the eligibility criteria set forth in this section may apply. However, as discussed in Section III.3.b. of the FFO, NIST will generally not fund applications that propose an organizational or operational structure that, in whole or in part, delegates or transfers to another person, institution, or organization the applicant's responsibility for core MEP management and oversight functions.

Application Requirements: Applications must be submitted in accordance with the requirements set forth in the corresponding FFO announcement.

Application/Review Information: The evaluation criteria, selection factors, and review and selection process provided in this section will be used for this competition only in lieu of those provided in the MEP regulations found at 15 CFR part 290, specifically 15 CFR §§ 290.6 and 290.7.

The evaluation criteria that will be used in evaluating applications and assigned weights, with a maximum score of 100, are listed below.

a. Project Narrative. (60 points; Sub-criteria i-iii will be weighted equally) The extent to which the applicant's proposal demonstrates how the applicant will efficiently and effectively establish an MEP center to provide manufacturing extension services to primarily small- and medium-sized manufacturers in the state of Florida will be evaluated. Reviewers will consider the following topics when evaluating the Project Narrative:

i. Market Understanding. Reviewers will assess the strategy proposed for the Center to define the target market, understand the needs of manufacturers, with an emphasis on the small- and medium-sized manufacturers, and determine appropriate services to meet identified needs. The following sub-topics will be evaluated:

(1) Geographic Scope and Targeting. Reviewers will assess the extent to which the applicant

• delineates target service regions and manufacturers;

• makes use of appropriate quantitative and qualitative data sources and market intelligence to support proposed strategies and approaches to defining and segmenting the market; and

• aligns priority industries and regions with other state and regional priorities and investments.

(2) Needs Identification and Service Offerings. Reviewers will assess the extent to which the applicant's proposed Center

• serves the region's manufacturing base, industry types, and technology requirements;

• meets existing and emerging needs of manufacturers in the service region;

• makes use of multiple sources of qualitative and quantitative information to determine manufacturers' needs and how to address them;

• makes use of resources, tools and services appropriate for the targeted small- and medium-sized manufacturers to meet identified needs of the region; and

• incorporates a range of complementary service providers and partners to deliver broad expertise and maximum value to manufacturing clients.

ii. Center Strategy. Reviewers will assess the strategy proposed for the Center to deliver services that meet manufacturers' needs and generate impact. Reviewers will assess the extent to which the proposed Center:

• Incorporates the market analysis described in criterion (i) above to inform strategies, products and services;

• defines a strategy for delivering services that balances market penetration with impact and revenue generation, addressing the needs of manufacturers, with an emphasis on the small- and medium-sized manufacturers;

• defines a state or regional ecosystem in which the Center will operate, including universities, community colleges, technology-based economic developers, and others; and

• supports achievements of the MEP mission and objectives while also satisfying the interests of other stakeholders, investors, and partners.

iii. Business Model. Reviewers will assess the proposed business model of the Center and its ability to execute the strategy proposed in criterion (ii) based on the market understanding described in Section V.1.a.i. above. The following sub-topics will be evaluated:

(1) Approach to the Market. Reviewers will assess the extent to which the proposed Center:

• Reaches area manufacturers;

• enables the use of delivery methods (direct delivery, third party, account management); and

• facilitates the engagement of manufacturers' leadership in strategic discussions related to new technologies, new products, and new markets.

(2) Products and Services. Reviewers will assess the extent to which the proposed Center:

• Engages expertise both from within the Center and from other sub-recipients and partners to make available a wide range of experts and services to manufacturers;

• delivers services to small- and medium-sized manufacturers to encourage adoption of new technologies, developing new products, and selling products in new markets;

• balances delivering process improvement services with services that will transform and grow manufacturers; and

• delivers advanced manufacturing technology to small- and medium-sized manufacturers and mechanisms for accelerating the adoption of technologies for both process improvement and new product adoption.

(3) Partnership Leverage and Linkages. Reviewers will assess the extent to which the proposed Center:

• Establishes a sustainable business model, incorporating investment from NIST, other public investors (federal, state, and local), small- and medium-sized manufacturing clients, and other sources; and

• makes use of effective resources or partnerships with third parties such as industry, universities, nonprofit economic organizations, and state governments likely to amplify the Center's capabilities for delivering growth services.

b. Qualifications of the Applicant and Program Management (20 points; Sub-criteria i and ii will be weighted equally). Reviewers will assess the ability of the key personnel and the management structure proposed to deliver the program and services envisioned for the Center. Reviewers will consider the following topics when evaluating the Qualifications of the Applicant and Program Management

i. Key Personnel and Organizational Structure. Reviewers will assess the extent to which:

• Proposed key personnel have the appropriate experience and education in manufacturing, outreach and partnership development to support achievements of the MEP mission and objectives;

• proposed key personnel have the appropriate experience and education to plan, direct, monitor, organize and control the monetary resources of the proposed Center to achieve its business objectives and maximize its value;

• the proposed management structure (leadership and governance) is aligned to support the execution of the strategy, products and services;

• the proposed staffing plan flows logically from the specified approach to the market and products and service offerings.

• the organizational roles and responsibilities of key personnel and staff are clearly delineated;

• the proposed field staff structure sufficiently supports the geographic concentrations and industry targets for the region; and

• a workable governance structure is delineated, including an oversight Board with a membership representing small- and medium-sized manufacturers in the region.

ii. Program Management. Reviewers will assess the extent to which:

• The proposed methodology of program management and internal evaluation is likely to ensure effective operations and oversight and meet program and service delivery objectives;

• the proposed evaluation plan is aligned to support the execution of the proposed Center's strategy and business model; and

• the proposed approach aligns effectively with the proposed key personnel, staff and organizational structure.

c. Budget Narrative and Financial Plan. (20 points; Sub-criteria i and ii will be weighted equally) Reviewers will assess the suitability and focus of the applicant's detailed one-year budget. The application will be assessed in the following areas:

i. Plans for Financial Cost Share. Reviewers will assess the extent to which:

• The applicant's funding commitments for cost share are identified and demonstrate stability and duration; and

• the applicant clearly describes the total level of cost share and detailed rationale of the cost share, including cash and in-kind, within the proposed budget.

ii. Financial Viability. Reviewers will assess the extent to which:

• The proposed projections for income and expenditures are appropriate for the scale of services that are to be delivered by the proposed Center and the service delivery model envisioned;

• the proposal's narrative of each of the budgeted items explains the rationale for each of the budgeted items, including assumptions the applicant used in budgeting for the Center;

• the overall financial plan is sufficiently robust and diversified so as to support the long term sustainability of the Center; and

• the proposed financial plan is aligned to support the execution of the proposed Center's strategy and business model.

Selection Factors. The Selecting Official shall select applications for award based upon the rank order of the applications, and may select an application out of rank based on one or more of the following selection factors:

a. The availability of Federal funds.

b. Relevance of the proposed project to MEP program goals and policy objectives.

c. Reviewers' evaluations, including technical comments.

d. The need to assure appropriate distribution within Florida and the surrounding region.

e. Whether the project duplicates other projects funded by DoC or by other Federal agencies.

Review and Selection Process:

(1) Initial Administrative Review of Applications. An initial review of timely received applications will be conducted to determine eligibility, completeness, and responsiveness to this notice and the corresponding FFO and the scope of the stated program objectives. Applications determined to be ineligible, incomplete, and/or non-responsive may be eliminated from further review. However, NIST, in its sole discretion, may continue the review process for an application that is missing non-substantive information that can easily be rectified or cured.

(2) Full Review of Eligible, Complete, and Responsive Applications. Applications that are determined to be eligible, complete, and responsive will proceed for full reviews in accordance with the review and selection processes below:

(3) Evaluation and Review. Each application will be reviewed by at least three technically qualified reviewers, who will evaluate each application based on the evaluation criteria (see Section V.1. of the FFO). Each reviewer will assign each application a numeric score for each application. If a non-Federal employee reviewer is used, the reviewers may discuss the applications with each other, but scores will be determined on an individual basis, not as a consensus. Reviewers will assign each application a score, based on the application's responsiveness to the criteria above, with a maximum score of 100. Applicants whose applications receive an average score of 70 or higher out of 100 will be deemed finalists.

Finalists may receive written follow-up questions in order for the reviewers to gain a better understanding of the applicant's proposal. Once the reviewers have completed their review of the applicant's responses, a conference call or site visit may be deemed necessary. If deemed necessary, either all finalists will participate one-on-one with reviewers in a conference call or all finalists will receive site visits that will be conducted by the reviewers referenced in the preceding paragraph. Finalists will be reviewed and evaluated, and reviewers may revise their assigned numeric scores based on the evaluation criteria (see Section V.1. of the FFO) as a result of the conference call or site visit.

(4) Ranking and Selection. Based on the reviewers' final numeric scores, a rank order will be prepared and provided to the Selecting Official for further consideration. The Selecting Official, who is the Director of the NIST MEP Program, will then select funding recipients based upon the rank order and the selection factors (see Section V.2. of the FFO).

NIST reserves the right to negotiate the budget costs with any applicant selected to receive an award, which may include requesting that the applicant remove certain costs. Additionally, NIST may request that the successful applicant modify objectives or work plans and provide supplemental information required by the agency prior to award. NIST also reserves the right to reject an application where information is uncovered that raises a reasonable doubt as to the responsibility of the applicant. NIST may select part, some, all, or none of the applications. The final approval of selected applications and issuance of awards will be by the NIST Grants Officer. The award decisions of the NIST Grants Officer are final.

Anticipated Announcement and Award Date. Review, selection, and award processing is expected to be completed in September 2014. The earliest anticipated start date for awards made under this notice and the corresponding FFO is expected to be October 1, 2014.

Additional Information

a. Application Replacement Pages. Applicants may not submit replacement pages and/or missing documents once an application has been submitted. Any revisions must be made by submission of a new application that must be received by NIST by the submission deadline.

b. Notification to Unsuccessful Applicants. Unsuccessful applicants will be notified in writing.

c. Retention of Unsuccessful Applications. For paper applications, one (1) of each non-selected application will be retained for three (3) years for record keeping purposes and the other two (2) copies will be destroyed. After three (3) years, the remaining copy will be destroyed. For electronic applications, an electronic copy of each non-selected application will be retained for three (3) years for record keeping purposes. After three (3) years, it will be destroyed.

Administrative and National Policy Requirements.

The Department of Commerce Pre-Award Notification Requirements: The DoC Pre-Award Notification Requirements for Grants and Cooperative Agreements, which are contained in the Federal Register notice of December 17, 2012 (77 FR 74634), are applicable to this notice and the corresponding FFO and are available at http://www.osec.doc.gov/oam/grants_management/policy/documents/Department%20of%20Commerce%20Financial%20Assistance%20Pre%20Award%20Notice%20-%2077%20FR%2074634.pdf

Employer/Taxpayer Identification Number (EIN/TIN), Dun and Bradstreet Data Universal Numbering System (DUNS), and System for Award Management (SAM): All applicants for Federal financial assistance are required to obtain a universal identifier in the form of DUNS number and maintain a current registration in the Federal government's primary registrant database, SAM. On the form SF-424 items 8.b. and 8.c., the applicant's 9-digit EIN/TIN and 9-digit DUNS number must be consistent with the information in SAM (https://www.sam.gov/) and the Automated Standard Application for Payment System (ASAP). For complex organizations with multiple EINs/TINs and DUNS numbers, the EIN/TIN and DUNS numbers MUST be the numbers for the applying organization. Organizations that provide incorrect/inconsistent EIN/TIN and DUNS numbers may experience significant delays in receiving funds if their application is selected for funding. Confirm that the EIN/TIN and DUNS number are consistent with the information on the SAM and ASAP. Please note that a federal assistance award cannot be issued if the designated recipient's registration in the System for Award Management (SAM.gov) is not current at the time of the award.

Per 2 CFR part 25, each applicant must:

1. Be registered in the Central Contractor Registration (CCR) before submitting an application, noting the CCR now resides in SAM;

2. Maintain an active CCR registration, noting the CCR now resides in SAM, with current information at all times during which it has an active Federal award or an application under consideration by an agency; and

3. Provide its DUNS number in each application or application it submits to the agency.

The applicant can obtain a DUNS number from Dun and Bradstreet. A DUNS number can be created within one business day. The CCR or SAM registration process may take five or more business days to complete. If you are currently registered with the CCR, you may not need to make any changes. However, please make certain that the EIN/TIN associated with your DUNS number is correct. Also note that you will need to update your CCR registration annually. This may take three or more business days to complete. Information about SAM is available at www.sam.gov. See also 2 CFR part 25 and the Federal Register notice published on September 14, 2010, at 75 FR 55671.

See also 2 CFR part 25 and the Federal Register notice published on September 14, 2010, at 75 FR 55671.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

DoC Representation by Corporations Regarding an Unpaid Delinquent Tax Liability or a Felony Conviction Under Any Federal Law. In accordance with the Federal appropriations law expected to be in effect at the time of project funding, NIST anticipates that the selected applicants will be provided a form and asked to make a representation regarding any unpaid delinquent tax liability or felony conviction under any Federal law.

Funding Availability and Limitation of Liability: Funding for the program listed in this notice and the corresponding FFO is contingent upon the availability of appropriations. In no event will NIST or DoC be responsible for application preparation costs if this program fails to receive funding or is cancelled because of agency priorities. Publication of this notice and the corresponding FFO does not oblige NIST or DoC to award any specific project or to obligate any available funds.

Executive Order 12866: This funding notice was determined to be not significant for purposes of Executive Order 12866.

Executive Order 13132 (Federalism): It has been determined that this notice does not contain policies with federalism implications as that term is defined in Executive Order 13132.

Executive Order 12372: Proposals under this program are not subject to Executive Order 12372, “Intergovernmental Review of Federal Programs.”

Administrative Procedure Act/Regulatory Flexibility Act: Notice and comment are not required under the Administrative Procedure Act (5 U.S.C. 553) or any other law, for matters relating to public property, loans, grants, benefits or contracts (5 U.S.C. 553 (a)). Moreover, because notice and comment are not required under 5 U.S.C. 553, or any other law, for matters relating to public property, loans, grants, benefits or contracts (5 U.S.C. 553(a)), a Regulatory Flexibility Analysis is not required and has not been prepared for this notice, 5 U.S.C. 601 et seq.

Dated: February 24, 2014.
Phillip Singerman,
Associate Director for Innovation & Industry Services.

[FR Doc. 2014-04475 Filed 2-27-14; 8:45 am]

BILLING CODE 3510-13-P